DEPARTMENT OF COMMERCE

International Trade Administration

[A-357-812, C-357-813]

Honey From Argentina: Notice of Initiation of Antidumping and Countervailing Duty Changed Circumstances Reviews and Consideration of Revocation of Antidumping and Countervailing Duty Orders

AGENCY: Import Administration, International Trade Administration, Department of Commerce.

DATES: Effective Date: October 2, 2012.

FOR FURTHER INFORMATION CONTACT: Patrick Edwards or Angelica Mendoza, AD/CVD Operations, Office 7, Import Administration, International Trade Administration, U.S. Department of Commerce, 14th Street and Constitution Avenue NW., Washington, DC 20230, at (202) 482-8029 or (202) 482-3019, respectively.

SUMMARY: In response to a request by the American Honey Producers Association (AHPA) and the Sioux Honey Association (SHA), the petitioning parties in the original less-than-fair-value investigation (collectively, petitioners), the Department of Commerce (the Department) is initiating changed circumstances reviews of the antidumping (AD) and countervailing (CVD) duty orders on honey from Argentina. The domestic producers have expressed no further interest in the relief provided by the AD and CVD orders. Interested parties are invited to comment on this notice of initiation.

SUPPLEMENTARY INFORMATION:

Background

On December 10, 2001, the Department published the antidumping and countervailing duty orders on honey from Argentina.¹ On July 24, 2012, petitioners requested that the Department revoke the Orders, effective December 1, 2010, based on the domestic U.S. industry's lack of further interest.² We received submissions indicating support for revocation of the Orders from respondent parties participating in the ongoing administrative review of the AD Order for the period December 1, 2010, through November 30, 2011.³ Additionally, from July 24, 2012, through July 25, 2012, we received notifications of withdrawal from the administrative review of the AD Order from petitioners as well as the selected mandatory respondents.⁴

¹ See Notice of Antidumping Duty Order: Honey from Argentina, 66 FR 63672 (December 10, 2001) (AD Order). See also Notice of Countervailing Duty Order: Honey from Argentina, 66 FR 63673 (December 10, 2001) (CVD Order), (collectively, Orders).

² See Letter from Petitioners, entitled “Request for `No Interest' Changed Circumstances Review of the Antidumping and Countervailing Duty Orders on Honey from Argentina,” dated July 24, 2012 (CCR Request).

³ See, e.g., Letter from Villamora S.A. and Apicola Danagie to the Secretary of Commerce, dated July 30, 2012 and Letter from Algodonera Avellaneda, S.A., dated August 3, 2012.

⁴ See Letter from Compañía Inversora Platense S.A. to the Secretary of Commerce, re: “Honey From Argentina: Withdrawal of Antidumping Administrative Review Request of Compañía Inversora Platense S.A.,” dated July 24, 2012; see also Letter from Nexco S.A. to the Secretary of Commerce, re: “Honey from Argentina, 10th Administrative Review (12/1/10-11/30/11); Withdrawal of Review Request,” dated July 24, 2012; see also Letter from Petitioners to the Secretary of Commerce, re: “Tenth Administrative Review of the Antidumping Duty Order on Honey from Argentina—Petitioners' Withdrawal of Request for Administrative Review,” dated July 25, 2012.

Based on a review of petitioners' July 24, 2012, CCR Request, we requested that petitioners resubmit its filing to provide supplemental information and data regarding domestic U.S. honey production. Accordingly, petitioners provided the requested information on August 22, 2012.⁵ Also in their Supplemental CCR Request, petitioners clarified that the intended date of revocation for the CVD Order is December 1, 2011, not December 1, 2010, as they had previously stated, as there is no ongoing review of the CVD Order for the 2010 through 2011 period. For further discussion of the information provided in these submissions, see the “Initiation of Changed Circumstances Reviews” section below.

⁵ See Letter from Petitioners, entitled “Supplement to Petitioners' Request for a `No-Interest' Changed Circumstances Review of the Antidumping and Countervailing Duty Orders on Honey from Argentina,” dated August 22, 2012 (Supplemental CCR Request).

Scope of the Orders

The merchandise covered by the orders is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise is currently classifiable under subheadings 0409.00.00, 1702.90.90, and 2106.90.99 of the Harmonized Tariff Schedule of the United States (HTSUS). Although the HTSUS subheadings are provided for convenience and customs purposes, the Department's written description of the merchandise under the orders is dispositive.

Initiation of Changed Circumstances Reviews

Pursuant to section 751(b)(1) of the Tariff Act of 1930, as amended (the Act), the Department will conduct a changed circumstances review upon receipt of a request from an interested party or receipt of information concerning an antidumping or countervailing duty order which shows changed circumstances sufficient to warrant a review of the order.⁶ Section 351.222(g) of the Department's regulations provides that the Department will conduct a changed circumstances review under 19 CFR 351.216, and may revoke an order in whole or in part, if it determines that the producers accounting for substantially all of the production of the domestic like product have expressed a lack of interest in the order, in whole or in part.⁷ In the event that the Department concludes that expedited action is warranted, 19 CFR 351.221(c)(3)(ii) and 19 CFR 351.222(f)(2)(iv) permit the Department to combine the notices of initiation and preliminary results.

⁶ See also 19 CFR 351.216.

⁷ See section 782(h) of the Act and section 351.222(g)(1) of the Department's regulations.

Based on the information petitioners provided in their CCR Request and Supplemental CCR Request, the Department has determined that changed circumstances sufficient to warrant the reviews exist.⁸ Both the Act and the Department's regulations require that “substantially all” domestic producers express a lack of interest in the Order for the Department to revoke.⁹ The Department has interpreted “substantially all” to represent producers accounting for at least 85 percent of U.S. production of the domestic like product.¹⁰ Because the data provided in the petitioners' request did not indicate that they account for 85 percent of domestic honey production, we are not combining this notice of initiation with a preliminary determination pursuant to 19 CFR 351.221(c)(3)(ii). Interested parties are, therefore, requested to address the issue of industry support in their comments. This notice of initiation will accord all interested parties an opportunity to address these proposed revocations.¹¹

⁸ See 19 CFR 351.216(d).

⁹ See 782(h) of the Act and 19 CFR 351.222(g).

¹⁰ See Certain Orange Juice from Brazil: Preliminary Results of Antidumping Duty Changed Circumstances Review and Intent Not to Revoke, In Part, 73 FR 60241, 60242 (October 10, 2008), unchanged in Certain Orange Juice From Brazil: Final Results of Antidumping Duty Changed Circumstances Review, 74 FR 4733 (January 27, 2009).

¹¹ See, e.g., Certain Corrosion-Resistant Carbon Steel Flat Products and Cut-to-Length Carbon Steel Plate Products from Germany: Initiation of Countervailing Duty Changed Circumstances Reviews, 68 FR 67657 (December 3, 2003), and Stainless Steel Plate in Coils from Italy: Final Results of Countervailing Duty Changed Circumstances Review and Revocation of Countervailing Duty Order, in Whole, 71 FR 15380 (March 28, 2006).

In accordance with section 751(b) of the Act and 19 CFR 351.216, 351.221, and 351.222, based on an affirmative statement of no interest by the domestic parties in continuing the AD and CVD orders with respect to honey from Argentina, as described above, we are initiating these changed circumstances administrative reviews.

If, as a result of these reviews, we revoke the Orders, we intend to instruct U.S. Customs and Border Protection (CBP) to end the suspension of liquidation of the subject merchandise on the effective date of the final notice of revocation, and to refund any estimated antidumping duties collected, for all unliquidated entries of such merchandise made on or after December 1, 2010, for the AD Order, and December 1, 2011, for the CVD Order. We will also instruct CBP to pay interest on such refunds in accordance with section 778 of the Act.

Public Comment

Interested parties are invited to comment on the initiation of these changed circumstances reviews. Parties who submit argument in these proceedings are requested to submit with the argument (1) a statement of the issue, and (2) a brief summary of the argument. All written comments may be submitted by interested parties not later than 5 p.m. Eastern Standard Time within 14 days after the date of publication of this notice in accordance with 19 CFR 351.303, and filed electronically using Import Administration's Antidumping and Countervailing Duty Centralized Electronic Service System (IA ACCESS).

The Department will publish in the Federal Register a notice of preliminary results of these changed circumstances reviews, in accordance with 19 CFR 351.221(c)(3), which will set forth the factual and legal conclusions upon which our preliminary results are based, and a description of any action proposed based on those results.

This notice of initiation is in accordance with section 751(b)(1) of the Act, 19 CFR 351.216(b) and (d), and 19 CFR 351.221(b)(1).

Dated: September 24, 2012.
Christian Marsh,
Deputy Assistant Secretary for Antidumping and Countervailing Duty Operations.

[FR Doc. 2012-24107 Filed 10-1-12; 8:45 am]

BILLING CODE 3510-DS-P